DEPARTMENT OF AGRICULTURE

Rural Utilities Service

[Docket No. RUS-23-ELECTRIC-0005]

Amended Notice of Funding Opportunity for the Empowering Rural America (New ERA) Program

AGENCY: Rural Utilities Service, USDA.

ACTION: Notice; amendment.

SUMMARY: The Rural Utilities Service (RUS or the Agency), a Rural Development (RD) agency of the United States Department of Agriculture (USDA), announced its intent to solicit Letters of Interest (LOI) for applications under the Empowering Rural America (New ERA) Program in a Notice of Funding Opportunity (NOFO) on May 16, 2023, in the Federal Register. In addition, the NOFO announced the eligibility requirements, application process and deadlines, and the criteria that RUS will use to assess New ERA Applications. This notice is making corrections and amendments to clarify timelines for application submission, ensure applicants know they are required to establish a Verified eAuthentication ID, inform applicants that they are eligible for the New ERA Program even if they are subject to a “cooling off period” under the Rural Electrification Act, and to notify applicants that the Agency will provide general assistance to applicants through the RUS' General Field Representatives (GFRs) prior to LOI submissions.

DATES: Letters of Interest can be submitted beginning at 11:59 p.m. Eastern Time (ET) on July 31, 2023, and until 11:59 p.m. ET on August 31, 2023. Letters of Interest will not be accepted after 11:59 p.m. ET on August 31, 2023.

Application Process: Applicants must submit an LOI in order to be considered for an Invitation to Proceed. An Eligible Entity that is invited by RUS to proceed will receive an Invitation to Proceed and will have sixty (60) days to complete and submit a New ERA Application beginning from the date the Invitation to Proceed is emailed to the Applicant. If the sixty (60)-day deadline to submit the completed application falls on Saturday, Sunday, or a Federal holiday, the application is due the next business day. RUS reserves the right, in its sole discretion, to extend the sixty (60)-day deadline upon the written request of the Applicant if the Applicant demonstrates to the satisfaction of the Administrator that exceptional circumstances exist to warrant the extension. New ERA Awards will be made as soon as possible following the submission of a New ERA Application, and all New ERA funds must be fully disbursed on or before September 30, 2031.

ADDRESSES:

Letters of Interest (LOI) Submissions. All LOIs must be submitted to RUS electronically through an RUS on-line application portal. The Agency will finalize the specific requirements of submitting the LOI through the on-line application portal by separate notice in the Federal Register, the RUS website at https://www.rd.usda.gov/programs-services/electric-programs/empowering-rural-america-new-era-program, and Grants.gov on or before July 31, 2023.

Application Submissions. Eligible Entities selected to proceed with the New ERA Application must submit a completed New ERA Application package in accordance with the instructions that will be provided in the RUS Invitation to Proceed.

Other Information: Additional information, resources, and sample LOI are available at https://www.rd.usda.gov/programs-services/electric-programs/empowering-rural-america-new-era-program. The IRA Funding for Rural Development website is located at www.rd.usda.gov/inflation-reduction-act.

FOR FURTHER INFORMATION CONTACT: Christopher McLean, Assistant Administrator, Electric Program, Rural Utilities Service, Rural Development, United States Department of Agriculture, 1400 Independence Avenue SW, STOP 1568, Washington, DC 20250-1560; Telephone: 202-690-4492. Email to: SM.RD.RUS.IRA.Questions@usda.gov.

SUPPLEMENTARY INFORMATION:

Corrections and Amendments

This program was initially announced in the Federal Register on May 16, 2023, in FR Doc 2023-10393. As of this publication, the following changes are being implemented.

1. On page 31225, in the first column, section D.2. in paragraph ii, the number of days to submit an application package after receipt of an Invitation to Proceed is amended from 90 day to 60 days. This section is amended and restated to read as follows:

ii. Phase 2—Application Submission. Upon receiving an Invitation to Proceed, the Applicant must submit its application package within sixty (60) days of receipt of such invitation. The Applicant's application package must contain the applicable information and documents required in 7 CFR part 1710, subpart D as well as the following information and documentation:

2. On page 31227, in the third column, section D.7, paragraph ii is being corrected from ninety (90) days to sixty (60) days. This section is amended and restated to read as follows:

ii. By submitting the LOI, the Eligible Entity certifies to RUS that it has the intent and ability to submit a complete New ERA Application within sixty (60) days of RUS emailing an Invitation to Proceed should RUS provide such Invitation to Proceed.

3. On page 31228, in the second column, section D.7 is being amended to add two new paragraphs, ix and x to read as follows:

ix. Prior to accessing the online application window to submit an LOI or an Application, an Applicant must obtain a Verified USDA eAuthentication (eAuth) account for each member of their staff requiring access to the online application window. If an Applicant or staff member does not have a Verified eAuth account, they will need to create an account or upgrade an existing account. To do so, a person will need to follow the instructions on the USDA eAuth website to create a Verified eAuth account or upgrade an existing account from “unverified” to “verified.” The USDA eAuth website can be found at: https://www.eauth.usda.gov/eauth/b/usda/home.

x. The 120-month or 180-month exclusions referenced in sec. 306B of the RE Act and related regulations do not apply to financing under this program.

4. On page 31232, in the second column, section I is being amended to add a new paragraph 9 to read as follows:

9. Application of General Assistance. Prior to official submission of an LOI, Applicants may request general assistance from the Agency if such requests are made prior to August 17, 2023. The Agency may provide general assistance as it is able, and Applicants may request assistance in the form of general assistance and consultation with an RUS GFR. Please note that RUS GFR shall not provide strategic submission or strategic LOI advice, and applicants are fully responsible for their submissions. Assistance may also be requested to Agency staff in the form of requests to speak at meetings, events, and conferences to explain program provisions and answer questions about this funding announcement. Such requests and responses will be posted to the New ERA FAQ page. Information on contacting an RUS GFR can be found at https://www.rd.usda.gov/contact-us/electric-gfr. For requests regarding speaking engagements, please email: SM.RD.RUS.IRA.Questions@usda.gov.

Andrew Berke,
Administrator, Rural Utilities Service, USDA Rural Development.

[FR Doc. 2023-12849 Filed 6-15-23; 8:45 am]

BILLING CODE 3410-15-P